DEPARTMENT OF AGRICULTURE

Food Safety and Inspection Service

[Docket No. FSIS-2006-0027]

National Advisory Committee on Microbiological Criteria for Foods

AGENCY: Food Safety and Inspection Service, USDA.

ACTION: Notice of public meeting.

SUMMARY: This notice announces that the National Advisory Committee on Microbiological Criteria for Foods (NACMCF) will hold public meetings of the full Committee and subcommittees on September 18-22, 2006. The Committee will discuss: (1) Determination of Cooking Parameters for Safe Seafood for Consumers, and (2) Assessment of the Food Safety Importance of Mycobacterium avium subspecies paratuberculosis.

DATES: The full Committee will hold an open meeting on Friday, September 22, 2006, 8:30 a.m. to 1:30 p.m. The Subcommittee on Determination of Cooking Parameters for Safe Seafood for Consumers will hold open meetings on Monday and Tuesday, September 18-19, 2006, from 8:30 a.m. to 5 p.m. The Subcommittee on Assessment of the Food Safety Importance of Mycobacterium avium subspecies paratuberculosis will hold open meetings on Wednesday and Thursday, September 20-21, 2006, from 8:30 a.m. to 5 p.m.

ADDRESSES: The September 18-21, 2006, subcommittee meetings will be held at the Aerospace Building, 901 “D” St., SW., Room 369, Washington, DC. The September 22, 2006, full committee meeting will be held in the conference room at the south end of the U.S. Department of Agriculture (USDA) cafeteria located in the South Building, 1400 Independence Avenue, SW., Washington, DC 20250. All documents related to full Committee meetings will be available for public inspection in the Food Safety and Inspection Service (FSIS) Docket Room, 300 12th Street, SW., Room 102, Cotton Annex Building, Washington, DC 20250, between 8:30 a.m. and 4:30 p.m., Monday through Friday, as soon as they become available. The NACMCF documents will also be available on the Internet at http://www.fsis.usda.gov/regulations/2006_Notices_Index/.

FSIS will finalize an agenda on or before the meeting dates and post it on the FSIS Internet Web page http://www.fsis.usda.gov/News/Meetings_&_Events/. Please note that the meeting agenda is subject to change due to the time required for committee discussions, thus, sessions could start or end earlier or later than anticipated. Please plan accordingly if you would like to attend a particular session.

Also, the official transcript of the September 22, 2006 full Committee meeting, when it becomes available, will be kept in the FSIS Docket Room at the above address and will also be posted on the FSIS Internet Web page http://www.fsis.usda.gov/About/NACMCF_Meetings/.

The mailing address for the contact person below, Karen Thomas, is: Food Safety and Inspection Service, U.S. Department of Agriculture, Office of Public Health Science, Aerospace Center, Room 333, 1400 Independence Avenue, SW., Washington, DC 20250-3700.

FOR FURTHER INFORMATION CONTACT: Persons interested in making a presentation, submitting technical papers, or providing comments at the September 22, plenary session should contact Karen Thomas, phone (202) 690-6620, Fax (202) 690-6334, e-mail address: karen.thomas@fsis.usda.gov, or at the mailing address above. Persons requiring a sign language interpreter or other special accommodations should notify Ms. Thomas by September 14, 2006.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The Charter for the NACMCF is available for viewing on the FSIS Internet Web page at http://www.fsis.usda.gov/About/NACMCF_Charter/.

The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides advice to the Centers for Disease Control and Prevention and the Departments of Commerce and Defense.

Dr. Richard Raymond, Under Secretary for Food Safety, USDA, is the Committee Chair; Dr. Robert E. Brackett, Director of the Department of Health and Human Services Food and Drug Administration's Center for Food Safety and Applied Nutrition (CFSAN), is the Vice-Chair; and Gerri Ransom, FSIS, is the Executive Secretariat.

At the subcommittee meetings the week of September 18-21, 2006 the Committee will discuss:

• The determination of cooking parameters for safe seafood for consumers, and

• Assessment of the food safety importance of Mycobacterium avium subspecies paratuberculosis.

Documents Reviewed by NACMCF

FSIS intends to make available to the public all materials that are reviewed and considered by NACMCF regarding its deliberations. Generally, these materials will be made available as soon as possible after the full Committee meeting. Further, FSIS intends to make these materials available in both electronic formats on the FSIS web page, as well as in hard copy format in the FSIS Docket Room. Often, an attempt is made to make the materials available at the start of the full Committee meeting when sufficient time is allowed in advance to do so.

Disclaimer: For electronic copies, all NACMCF documents and comments are electronic conversions from a variety of source formats into HTML that may have resulted in character translation or format errors. Readers are cautioned not to rely on this HTML document. Minor changes to materials in electronic format may be necessary in order to meet the electronic and information technology accessibility standards contained in Section 508 of the Rehabilitation Act in which graphs, charts, and tables must be accompanied by a text descriptor in order for the vision-impaired to be made aware of the content. FSIS will add these text descriptors along with a qualifier that the text is a simplified interpretation of the graph, chart, or table. Portable Document Format (PDF) and/or paper documents of the official text, figures, and tables will be available for inspection in the FSIS Docket Room.

Copyrighted documents will not be posted on the FSIS Web site, but will be available for inspection in the FSIS Docket Room.

Additional Public Notification

Public awareness of all segments of rulemaking and policy development is important. Consequently, in an effort to ensure that minorities, women, and persons with disabilities are aware of this notice, FSIS will announce it on-line through the FSIS Web page located at http://www.fsis.usda.gov/regulations/2006_Notices_Index/. FSIS will also make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on September 6, 2006.
Barbara J. Masters,
Administrator.

[FR Doc. 06-7563 Filed 9-6-06; 11:26 am]

BILLING CODE 3410-DM-P